DEPARTMENT OF JUSTICE

Notice of Lodging of Proposed Settlement Order Under the Clean Water Act

On May 12, 2014, the Department of Justice lodged a proposed settlement order with the United States District Court for the District of Utah in the lawsuit entitled United States v. Chevron Pipe Line Company, Civil Action No. 2:14cv00360.

The United States filed this lawsuit under the Clean Water Act. The complaint seeks civil penalties from Chevron Pipe Line Company for two oil spills that occurred near Salt Lake City, Utah. The first oil spill occurred in June 2010 near Red Butte Creek, and the second occurred in March 2013 near Willard Bay. The settlement order requires the defendant to pay a civil penalty of $875,000 to the Oil Spill Liability Trust Fund.

The publication of this notice opens a period for public comment on the settlement order. Comments should be addressed to the Assistant Attorney General, Environment and Natural Resources Division, and should refer to United States v. Chevron Pipe Line Company, D.J. Ref. No. 90-5-1-1-10450. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlement order may be examined and downloaded at this Justice Department Web site: http://www.usdoj.gov/enrd/Consent_Decrees.html. We will provide a paper copy of the settlement order upon written request and payment of reproduction costs. Please mail your request and payment to: Consent Decree Library, U.S. DOJ—ENRD, P.O. Box 7611, Washington, DC 20044-7611.

Please enclose a check or money order for $2.75 (25 cents per page reproduction cost) payable to the United States Treasury.

Robert Brook,
Assistant Section Chief, Environmental Enforcement Section, Environment and Natural Resources Division.

[FR Doc. 2014-11773 Filed 5-20-14; 8:45 am]

BILLING CODE 4410-15-P